ENVIRONMENTAL PROTECTION AGENCY

[EPA-HQ-OPPT-2003-0004; FRL-8433-6]

Access to Confidential Business Information by Industrial Economics, Inc.

AGENCY: Environmental Protection Agency (EPA).

ACTION: Notice.

SUMMARY: EPA has authorized its contractor, Industrial Economics, Inc. of Cambridge, MA, to access information which has been submitted to EPA under all sections of the Toxic Substances Control Act (TSCA). Some of the information may be claimed or determined to be Confidential Business Information (CBI).

DATES: Access to the confidential data will occur no sooner than September 4, 2009.

FOR FURTHER INFORMATION CONTACT: For general information contact: Jonathan Libber, Office of Enforcement and Compliance Assurance (2248A), Environmental Protection Agency, 1200 Pennsylvania Ave., NW., Washington, DC 20460-0001; telephone number: (202) 564-6102; e-mail address: libber.jonathan@epa.gov.

For technical information contact: Scott Sherlock, Environmental Assistance Division (7408M), Office of Pollution Prevention and Toxics, Environmental Protection Agency, 1200 Pennsylvania Ave., NW., Washington, DC 20460-0001; telephone number: (202) 564-8257; fax number: (202) 564-8251; e-mail address: sherlock.scott@epa.gov.

SUPPLEMENTARY INFORMATION:

I. General Information

A. Does this Notice Apply to Me?

This action is directed to the public in general. This action may, however, be of interest to you if you or your firm is the subject of an EPA enforcement action under the Toxic Substances Control Act (TSCA)”. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established a docket for this action under docket identification (ID) number EPA-HQ-OPPT-2003-0004. All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What Action is the Agency Taking?

Under Contract Number GS10F0224J, Order Number EP07H000213, contractor Industrial Economics, Inc. of 2067 Massachusetts Avenue, Cambridge, MA, will assist the Office of Pollution Prevention and Toxics (OPPT) in preparing financial analyses of the firms, individuals and organizations that are the subject of EPA enforcement actions taken under TSCA.

In the course of these enforcement actions, Industrial Economics, Inc. may need to review such documents such as a violators tax returns, financial statements, sales data, bank statements, recent loan applications, W-2 forms, etc. The contractor needs this information in order to determine what the violator can afford vis-à-vis compliance costs, clean-up costs and civil penalties. The contractor may also be reviewing this information in regard to determining how much money and economic benefit, the violators obtained by violating the law. Some of the information may be claimed or determined to be CBI.

In accordance with 40 CFR 2.306(j), EPA has determined that under Contract Number GS10F0224J, Order Number EP07H000213, Industrial Economics, Inc. will require access to CBI submitted to EPA under all sections of TSCA to perform successfully the duties specified under the contract. Industrial Economics, Inc. personnel will be given access to information submitted to EPA under all sections of TSCA.

EPA is issuing this notice to inform all submitters of information under all sections of TSCA that EPA may provide Industrial Economics, Inc. access to these CBI materials on a need-to-know basis only. All access to TSCA CBI under this contract will take place at EPA Headquarters and Industrial Economics, Inc.’s site located in Cambridge, MA, in accordance with EPA's TSCA CBI Protection Manual.

Access to TSCA data, including CBI, will continue until March 31, 2010. If the contract is extended, this access will also continue for the duration of the extended contract without further notice.

Industrial Economics, Inc. personnel will be required to sign nondisclosure agreements and will be briefed on appropriate security procedures before they are permitted access to TSCA CBI.

List of Subjects

Environmental protection, Confidential Business Information.

Dated: August 21, 2009.
Matthew G. Leopard,
Acting Director, Information Management Division, Office of Pollution Prevention and Toxics.

[FR Doc. E9-20797 Filed 8-27-09; 8:45 am]

BILLING CODE 6560-50-S